DEPARTMENT OF THE INTERIOR

National Park Service

Notice of Inventory Completion: University of Nebraska State Museum, University of Nebraska-Lincoln, Lincoln NE

AGENCY: National Park Service, Interior.

ACTION: Notice.

Notice is here given in accordance with the Native American Graves Protection and Repatriation Act (NAGPRA), 25 U.S.C. 3003, of the completion of an inventory of human remains and associated funerary objects in the possession of the University of Nebraska State Museum, University of Nebraska-Lincoln, Lincoln, NE. The human remains were collected from Dakota, Douglas, and Thurston Counties, NE and from an unknown location.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by University of Nebraska State Museum professional staff in consultation with representatives of the Omaha Tribe of Nebraska.

At an unknown time, human remains representing a minimum of four individuals were removed from an unknown location. In 1998, the human remains, which were labelled “Omaha 2,3,4,5” were found in Bessey Hall on the campus of the University of Nebraska-Lincoln. The human remains show evidence of having been the subject of scientific analysis, but the sample numbers cannot be related to any records of prior study. No known individuals were identified. No associated funerary objects are present.

The condition of the human remains is consistent with archeological derivation. Given the designation “Omaha” on the labels, and that prior studies on Omaha human remains have been conducted under University of Nebraska auspices, it has been determined that the individuals are affiliated with the Omaha Tribe of Nebraska.

On December 8, 1932, human remains representing a minimum of two individuals were removed from the Omaha Creek site in Dakota and Thurston Counties, NE, by the University of Nebraska Archaeological Survey. No known individuals were identified. The 71 associated funerary objects are 8 copper thimbles, 19 copper feather holders, 5 metal buttons, 8 textile scraps, 2 mirror fragments, 27 iron fragments, 1 chipped stone tool fragment, and 1 gunflint.

Based on the condition of the human remains, the individuals have been determined to be Native American. Based on the apparent historic age of the human remains, the location of the burial, and the historic nature of the associated funerary objects, the individuals have been determined to be affiliated with the Omaha Tribe of Nebraska.

In 1907, human remains representing a minimum of four individuals were removed from the Ponca Creek District in Douglas County, NE, by Robert F. Gilder under the auspices of the University of Nebraska State Museum. The site is approximately 10 miles north of the city of Omaha on the south side of Ponca Creek. No known individuals were identified. No associated funerary objects are present.

Preservation resembles that of human remains from historic sites. A tag on the human remains states “from presumably Omaha burial.” Based on the condition of the human remains, the individuals have been determined to be Native American. Based on the apparent historic age and location of burial, the individuals have been determined to be affiliated with the Omaha Tribe of Nebraska.

Officials of the University of Nebraska have determined that, pursuant to 25 U.S.C. 3001 (9-10), the human remains described above represent the physical remains of ten individuals of Native American ancestry. Officials of the University of Nebraska also have determined that, pursuant to 25 U.S.C. 3001 (3)(A), the 71 objects described above are reasonably believed to have been placed with or near individual human remains at the time of death or later as part of the death rite or ceremony. Lastly, officials of the University of Nebraska have determined that, pursuant to 25 U.S.C. 3001 (2), there is a relationship of shared group identity that can be reasonably traced between the Native American human remains and associated funerary objects and the Omaha Tribe of Nebraska.

Representatives of any other Indian tribe that believes itself to be culturally affiliated with the human remains and associated funerary objects should contact Priscilla Grew, NAGPRA Coordinator, University of Nebraska State Museum, 307 Morrill Hall, Lincoln, NE 68588-0338, telephone (402) 472-3779 before August 7, 2006. Repatriation of the human remains and associated funerary objects to the Omaha Tribe of Nebraska may proceed after that date if no additional claimants come forward.

The University of Nebraska is responsible for notifying the Omaha Tribe of Nebraska that this notice has been published.

Dated: May 19, 2006.
Sherry Hutt,
Manager, National NAGPRA Program.

[FR Doc. E6-10506 Filed 7-5-06; 8:45 am]

BILLING CODE 4312-50-S